CONSUMER PRODUCT SAFETY COMMISSION

Proposed Extension of Approval of Information Collection; Comment Request—Baby Bouncers and Walker-Jumpers

AGENCY: Consumer Product Safety Commission.

ACTION: Notice.

SUMMARY: As required by the Paperwork Reduction Act of 1995 (44 U.S.C. Chapter 35), the Consumer Product Safety Commission (Commission) requests comments on a proposed extension of approval, for a period of 3 years from the date of approval by the Office of Management and Budget (OMB), of information collection requirements for manufacturers and importers of children's articles known as baby-bouncers and walker-jumpers. The collection of information consists of requirements that manufacturers and importers of these products must make, keep and maintain records of inspections, testing, sales, and distributions consistent with the provisions of the Federal Hazardous Substances Act, 15 U.S.C. 1261, 1262, and 16 CFR part 1500.

The CPSC will consider all comments received in response to this notice before requesting approval of this collection of information from OMB.

DATES: The Office of the Secretary must receive written comments not later than August 20, 2012.

ADDRESSES: You may submit comments, identified by Docket No. CPSC-2012-0034, by any of the following methods:

Submit electronic comments in the following way:

Federal eRulemaking Portal: http://www.regulations.gov. Follow the instructions for submitting comments. To ensure timely processing of comments, the Commission is no longer accepting comments submitted by electronic mail (email), except through www.regulations.gov.

Submit written submissions in the following way:

Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: For information about the proposed collection of information, call or write Mary James, Office of Information Technology and Technology Services, Consumer Product Safety Commission, 4330 East-West Highway, Bethesda, MD 20814; telephone: (301) 504-7213 or by email to: mjames@cpsc.gov.

SUPPLEMENTARY INFORMATION: Regulations issued under provisions of the Federal Hazardous Substances Act (15 U.S.C. 1261, 1262), codified at 16 CFR part 1500, establish safety requirements for products called “baby-bouncers” and “walker-jumpers.”

A. Requirements for Baby-Bouncers and Walker-Jumpers

One CPSC regulation bans any product known as a baby-bouncer, walker-jumper, or similar article if it is designed in such a way that exposed parts present hazards of amputations, crushing, lacerations, fractures, hematomas, bruises, or other injuries to children's fingers, toes, or other parts of the body. 16 CFR 1500.18(a)(6). This regulation previously included baby walkers as well, but these products are now covered by a separate regulation. 16 CFR part 1216.

A second CPSC regulation establishes criteria for exempting baby-bouncers and walker-jumpers from the banning rule under specified conditions. 16 CFR 1500.86(a)(4). The exemption regulation requires certain labeling on these products and their packaging to identify the name and address of the manufacturer or distributor and the model number of the product. Additionally, the exemption regulation requires that records be established and maintained for 3 years that relate to testing, inspection, sales, and distributions of these products. The regulation does not specify a particular form or format for the records. Manufacturers and importers may rely on records kept in the ordinary course of business to satisfy the recordkeeping requirements, if those records contain the required information.

If a manufacturer or importer distributes products that violate the banning rule, the records required by section 1500.86(a)(4) can be used by the manufacturer or importer and the CPSC: (i) To identify specific models of products that fail to comply with applicable requirements, and (ii) to notify distributors and retailers if the products are subject to recall.

The OMB approved the collection of information requirements in the regulations under control number 3041-0019. OMB's most recent extension of approval expires on August 31, 2012. The CPSC now proposes to request an extension of approval, without change, for the collection of information requirements.

B. Estimated Burden

CPSC staff estimates that about 25 firms are subject to the testing and recordkeeping requirements of the regulations. Firms are expected to test on the average two new models per year per firm. CPSC staff estimates further that the burden imposed by the regulations on each of these firms is approximately 1 hour per year on the recordkeeping requirements and 30 minutes or less per model on the label requirements. Thus, the annual burden imposed by the regulations on all manufacturers and importers is approximately 50 hours on recordkeeping (25 firms × 2 hours) and 25 hours on labeling (25 firms × 1 hour) for a total annual burden of 75 hours per year.

CPSC staff estimates that the hourly wage for the time required to perform the required testing and recordkeeping is approximately $61.24 (Bureau of Labor Statistics: Total compensation rates for management, professional, and related occupations in private goods-producing industries, December, 2011) and that the hourly wage for the time required to maintain the required records is about $27.33 (Bureau of Labor Statistics: Total compensation rates for sales and office workers in private goods-producing industries, December 2011). The annualized total cost to the industry is estimated to be $3,745.

The Commission will expend approximately 2 days of professional staff time reviewing records required to be maintained by the regulations for baby-bouncers, and walker-jumpers. The annual cost to the federal government of the collection of information in these regulations is estimated to be about $165. This is based on an average hourly wage rate of $57.13 (the equivalent of a GS-14 Step 5 employee) with an additional 30.2 percent added for benefits (BLS, Percentage of total compensation comprised by benefits for all civilian management, professional, and related employees, December 2011), or $82.56 × 2 hours.

C. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic, or other technological collection techniques, or other forms of information technology.

Dated: June 14, 2012.
Todd A. Stevenson,
Secretary, Consumer Product Safety Commission.

[FR Doc. 2012-14950 Filed 6-19-12; 8:45 am]

BILLING CODE 6355-01-P